DEPARTMENT OF AGRICULTURE

Advisory Committee on Beginning Farmers and Ranchers; Intent To Renew and Request for Nominations

AGENCY: Office of Advocacy and Outreach, USDA.

ACTION: Notice of intent and request for nominations.

SUMMARY: We are giving notice that the Secretary of Agriculture intends to renew the charter of the Advisory Committee on Beginning Farmers and Ranchers (the “Committee”) for an additional term of 2 years through December 14, 2014. We are also giving notice that the Secretary is soliciting nominations for membership for this Committee.

DATES: Consideration will be given to nominations received on or before December 31, 2012.

FOR FURTHER INFORMATION CONTACT: Mrs. R. J. Cabrera, Designated Federal Official, USDA OAO, 1400 Independence Avenue, Room 520-A, Washington, DC 20250-0170; Telephone (202) 720-6350; Fax (202) 720-7704; Email: rj.cabrera@osec.usda.gov.

ADDRESSES: Nomination packages may be sent by postal mail or commercial delivery to: Mrs. R.J. Cabrera, Designated Federal Official, USDA OAO, 1400 Independence Avenue, Room 520-A, Washington, DC 20250-0170. Nomination packages may also be faxed to (202) 720-7704.

SUPPLEMENTARY INFORMATION: Pursuant to the Federal Advisory Committee Act (FACA, 5 U.S.C. App.), notice is hereby given that the Secretary of Agriculture intends to renew the Advisory Committee on Beginning Farmers and Ranchers for 2 years. Members of the current Committee may be appointed for an additional term of 1 or 2 years; new members will serve for 2 years in remaining roles adhering to the statutory guidelines of representation required.

The Committee advises the Secretary of Agriculture on matters broadly affecting new farmers and ranchers including strategies, policies, and programs that will enhance opportunities and create new farming and ranching operations. The Committee will consider Department goals and objectives necessary to implement prior recommendations. The Committee will develop and recommend an overall framework and strategies to encompass principles that leverage and maximize existing programs, and create and test new program opportunities.

In this notice, we are soliciting nominations from interested organizations and individuals from among ranching and farming producers (industry), related government, State, and Tribal agricultural agencies, academic institutions, commercial banking entities, trade associations, and related nonprofit enterprises. An organization may nominate individuals from within or outside its membership; alternatively, an individual may nominate herself or himself. Nomination packages should include a nomination form along with a cover letter or resume that documents the nominee's background and experience. Nomination forms are available on the Internet at http://www.ocio.usda.gov/forms/doc/AD-755.pdf or may be obtained from Mrs. R. J. Cabrera at the address or telephone number noted above.

The Secretary will select up to 20 members from among those organizations and individuals solicited, in order to obtain the broadest possible representation on the Committee, in accordance with the FACA and U.S. Department of Agriculture (USDA) Regulation 1041-001. Equal opportunity practices, in line with the USDA policies, will be followed in all appointments to the Committee. To ensure that the recommendations of the Committee have taken into account the needs of the diverse groups served by the Department, membership should include, to the extent practicable, individuals with demonstrated ability to represent minorities, women, and persons with disabilities.

Dexter L. Pearson,
Associate Director, Office of Advocacy and Outreach.

[FR Doc. 2012-30471 Filed 12-18-12; 8:45 am]

BILLING CODE P